DEPARTMENT OF HOUSING AND URBAN DEVELOPMENT

[Docket No. FR-5300-FA-18]

Announcement of Funding Awards for the Community Development Technical Assistance Programs Fiscal Year 2009

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Community Development Technical Assistance programs. This announcement contains the names of the awardees and amounts of the awards made available by HUD.

FOR FURTHER INFORMATION CONTACT: Holly A. Kelly, Acting Director, Technical Assistance Division, Office of Community Planning and Development, 451 Seventh Street, SW., Room 7218, Washington, DC 20410-7000; telephone (202) 402-6324 (this is not a toll-free number). Persons with speech or hearing impairments may access this telephone number via TTY by calling the toll-free Federal Information Relay Service during working hours at 800-877-8339. For general information on this and other HUD programs, call Community Connections at 1-800-998-9999 or visit the HUD Web site at http://www.hud.gov.

SUPPLEMENTARY INFORMATION: The Fiscal Year 2009 Community Development Technical Assistance program was designed to increase the effectiveness of HUD's HOME Investment Partnerships Program (HOME), CHDO (HOME) program. McKinney-Vento Homeless Assistance programs (Homeless), Housing Opportunities for Persons with AIDS (HOPWA) program, Community Development Block Grant (CDBG) program through the selection of technical assistance (TA) providers for these five programs.

The competition was announced in the SuperNOFA published December 29, 2008 (73 FR 79548). The CD-TA NOFA was extended on August 20, 2009 (74 FR 17685) and closed on October 21, 2009. The NOFA allowed for approximately $23.87 million for CD-TA awards. Applications were rated and selected for funding on the basis of selection criteria contained in the Notice. For the Fiscal Year 2009 competition, 49 awards totaling $22,963,914 were awarded to 32 distinct technical assistance providers nationwide.

In accordance with section 102(a)(4)(C) of the Department of Housing and Urban Development Reform Act of 1989 (103 Stat. 1987, 42 U.S.C. 3545), the Department is publishing the grantees and the amounts of the awards in Appendix A to this document.

Dated: October 15, 2010.
Jeanne Van Vlandren,
General Deputy Assistant Secretary (Acting) for Community Planning and Development.

Recipient | State | Amount
Chicago Rehabilitation Network | IL | $120,000.00
Community Frameworks | WA | 20,000.00
Douglas-Cherokee Economic Authority, Inc | TN | 100,000.00
Homeless and Housing Coalition of Kentucky, Inc | KY | 150,000.00
Housing Action Illinois | IL | 120,000.00
Housing Assistance Council | DC | 725,000.00
Local Initiatives Support Corporation | NY | 330,000.00
Minnesota Housing Partnership | MN | 200,000.00
New York State Rural Housing Coalition, Inc | NY | 118,915.00
Ohio Capital Corporation for Housing | OH | 150,000.00
Regional Housing and Community Development Alliance | MO | 100,000.00
Rural Community Assistance Corporation | CA | 650,000.00
State of Michigan | MI | 200,000.00
The Affordable Housing Group of North Carolina, Inc | NC | 99,999.00
Training & Development Associates, Inc | NC | 443,914.00
Training & Development Associates, Inc | NC | 2,756,086.00
Urban Strategies, Inc | WI | 50,000.00
Vermont Housing and Conservation Board | VT | 60,000.00
Total CHDO |  | 6,393,914.00
Capital Access, Inc | PA | 490,000.00
Dennison Associates, Inc | DC | 430,000.00
Douglas-Cherokee Economic Authority, Inc | TN | 30,000.00
ICF Incorporated, LLC | VA | 2,250,000.00
ICF Incorporated, LLC | VA | 874,790.00
Minnesota Housing Partnership | MN | 60,000.00
Ohio Capital Corporation for Housing | OH | 50,000.00
Rural Community Assistance Corporation | CA | 185,000.00
State of Michigan | MI | 110,000.00
Training & Development Associates, Inc | NC | 660,210.00
Training & Development Associates, Inc | NC | 1,110,000.00
Total HOME |  | 6,250,000.00
Abt Associates Inc | MA | 655,290.00
Cloudburst Consulting Group, Inc | MD | 662,116.00
ICF Incorporated, LLC | VA | 682,594.00
Total CDBG |  | 2,000,000.00
Abt Associates Inc | MA | 2,100,000.00
Cloudburst Consulting Group, Inc | MD | 1,100,000.00
Dennison Associates, Inc | DC | 72,000.00
HomeBase/The Center for Common Concerns | CA | 82,000.00
Homeless Network of Texas, Inc | TX | 32,000.00
ICF Incorporated, LLC | VA | 198,000.00
ICF Incorporated, LLC | VA | 1,800,000.00
Minnesota Housing Partnership | MN | 31,000.00
National Center on Family Homelessness, Inc | MA | 450,000.00
New Mexico Coalition to End Homelessness | NM | 20,000.00
Paula Harper dba Community Solutions | SC | 11,000.00
Technical Assistance Collaborative, Inc | MA | 526,000.00
The Corporation for Supportive Housing | NY | 91,000.00
Training & Development Associates, Inc | NC | 322,000.00
Total Homeless |  | 6,835,000.00
Building Changes | WA | 200,000.00
Collaborative Solutions, Inc | AL | 750,000.00
Victory Programs, Inc | MA | 535,000.00
Total HOPWA |  | 1,485,000.00
Grand Total |  | 22,963,914.00

[FR Doc. 2010-27199 Filed 10-26-10; 8:45 am]

BILLING CODE 4210-67-P